DEPARTMENT OF TRANSPORTATION

Federal Motor Carrier Safety Administration

Qualification of Drivers; Exemption Applications; Vision

AGENCY: Federal Motor Carrier Safety Administration (FMCSA), DOT.

ACTION: Notice of denials.

SUMMARY: The FMCSA announces that 534 individuals were denied exemptions from the Federal vision standard applicable to interstate truck drivers and the reasons for their denials.

FOR FURTHER INFORMATION CONTACT: Sandra Zywokarte, Office of Bus and Truck Standards and Operations, (MC-PSD), 202-366-2987, Department of Transportation, FMCSA, 400 Seventh Street, SW., Washington, DC 20590-0001. Office hours are from 7:45 a.m. to 4:15 p.m., e.t., Monday through Friday, except Federal holidays.

SUPPLEMENTARY INFORMATION:

Background

Under 49 U.S.C. 31315 and 31136(e), FMCSA may grant an exemption from the Federal vision standard for a renewable 2-year period if it finds such an exemption would likely achieve a level of safety that is equivalent to, or greater than, the level that would be achieved absent such an exemption. (49 CFR 391.41(b)(10))

Accordingly, FMCSA evaluated 534 individual exemption requests on their merits and made a determination that these applicants do not satisfy the criteria established to demonstrate that granting an exemption is likely to achieve an equal or greater level of safety that exists without the exemption. Each applicant has, prior to this notice, received a letter of final disposition on his/her individual exemption request. Those decision letters fully outlined the basis for the denial and constitute final agency action. The list published today summarizes the agency's recent denials as required under 49 U.S.C. 31315(b)(4) by periodically publishing names and reason for denials.

The following 213 applicants lacked sufficient recent driving experience over three years:

Adair, Merle

Anaya, John

Angell, Michael

Babcock, Joel

Banks, Prentice

Beaton, Gary

Beebe, Morris

Bell, Demitra

Bender, Fred

Bickers, Harvie

Black, Paul

Blackwelder, Rickey

Bodiford, Jr., Cecil

Boger, Ronnie

Bonney, Stephen

Boone, Travis

Boyles, Richard

Brandano, Anthony

Brigstock, Jon

Brooks, William

Brown, John

Brown, Rodney

Browning, Paul

Burkett, Joshua

Burrell, Donald

Butts, Kenneth

Camp, Michael

Cannon, Dwayne

Carlin, Robert

Cassatt, Darryl

Casteel, William

Catillo, Jr., Ramon

Chestnut, Kevin

Chopp, Alvin

Clayton, Andrew

Cleary, Dennis

Cope, Daniel

Cornell, Chaney

Crook, Greg

Cutright, Orin

Dahmer, Jr., Herman

Davis, Stanley

Davison, Tommy

DeGross, Kevin

Denson, Leroy

Diehl, Paul

Dowell, Danny

Dreager, Donald

Durham, James

Edmonds, Michael

Edwards, Clint

Ellington, John

Ervin, Vernon

Estes, Tomie

Eubanks, Mack

Forgey, Richard

Franklin, Michael

Freeman, David

Freeman, Gina

Fuson, Patrick

Goodrum III, Horace

Gordy, James

Gorman, Michael

Green, Lorenzo

Grijalba, William

Gutierrez, Ramon

Hall, Joe

Hamaker, Mark

Hamrick, Donald

Hanson, Larry

Hardy, Roger

Harris, Melvin

Heller, Dennis

Henderson, Charles

Higgs, Cynthia

Hill, Clifford

Hill, Roderic

Hinshaw, Howard

Hogue, Larry

Holmes, Earl

Holmes, Gary

Hudson, David

Hustead, Dennis

Inge, Jr., William

Inman, David

Jackson, William

James, Larry

Janus, Frederick

Jessop, Charles

Johnson, Donald

Johnson, Jimmy

Judd, Jr., Paul

Johnson, Michael

Jones, Terry

Keenum, Gary

Kilduff, James

King, Colon

King, John

Klimek, Chuck

Knerr, Donald

Kolberg, Perry

Koonce, Jackie

Kuhn, Gregory

Lajoie, Mark

Lapha, David

Larivee, Sr., Robert

Lindsay, Stuart

Lowrey, Patrick

Maggard, John

March, Steven

Marshall, Barry

Martin, Frankie

Martin, John

Mayrose, Craig

McClure, Eric

McClure, Jr., Robert

McCurdy, Mark

McDaniel II, Otis

McEntyre, William

McIntosh, Nathan

Meeks, Jerry

Miles, Harry

Miles, Larry

Miller, Mark

Miller, Paul

Minton, Scotty

Miranda, Jr., Joseph

Moore, Edward

Moos, Douglas

Mueller, Louis

Murdoff, Elroy

Myre, John

Newlin, Ronald

Oathout, Kirby

O'Rourke, Scott

Paarlberg, Ralph

Parra, Saul

Pawlak, Robert

Payne, Kenneth

Peltier, Walter

Pepper, Martin

Pete, Freddy

Petre, James

Phillis, Kenneth

Phipps, Roy

Pieplow, Larry

Piersall, Woodrow

Pool, Justin

Prewitt, Jr., James

Prezzia, Ronald

Pribanic, John

Pullins, David

Purvis, James

Quenzer, Steve

Rains Jeffrey

Ray, Billy

Reilley, James

Reinsberg, David

Reszynski, Edward

Rhodes, Jr., John

Riley, Jr., James

Ritchie, James

Robel, Robert

Rodriguez, Amando

Rogers, Doyle

Rotondo, Mark

Royer, Raymond

Rubio, Hall

Ruffin, William

Russ II, John

St. John, Gary

Schaaf, James

Scott, Michael

Shepherd, Bruce

Shoemaker, Timothy

Shrewsbury, William

Simonye, Carl

Slagowski, Stanley

Slee, Donald

Snider, Delbert

Spaich, Timothy

Sparks, Wayne

Stewart, Troy

Stoddard, Paul

Summers, Donald

Sutter, John

Swartz, Jr., Arthur

Taylor, Richard B.

Taylor, Richard E.

Taylor, William

Tetreault, Dennis

Thomas, Jefferson

Tyler, Keith

Victoriano, Sr., Dennis

Wade, Wayne

Ward, Larry

Warfield, Richard

Weber, Kevin

Weekly, Wesley

Weller, Craig

West, Frank

West, Harvey

Whatley, Timothy

Wilgis, Foard

Wilkerson, Chad

Wilkinson, Charley

Williams, Edward

Wimberly, Hillard

Witt, Kenneth

Wood, Michael

Wurtele, Jon

The following 57 applicants had no experience operating a commercial motor vehicle (CMV) and therefore presented no evidence from which FMCSA can conclude that granting the exemption is likely to achieve a level of safety equal to that existing without the exemption:

Abrams, James

Baker, Joseph

Barber, Loyd

Barrett, Jr., Gregory

Biega, Mark

Blumle, James

Bonilla, William

Burr, Danny

Burr, Michael

Butero, Paula

Callahan, Sean

Collins, Eric

Conner, Glenn

Critchley, Jr., Philip

Currier, Thomas

Daniel, Jerry

Dean, Joseph

DeMario, Frank

DiPasqua III, Louis

Fry, Derwin

Gay, Gerald

Hamilton, Don

Hayes, Scott

Hopkins, John

Johnson, Larry

Jones, Abram

Martin, Jerome

Martinez, Jorge

Mays, Jerry

Miniex, Charles

Mitchell, Alex

Natola, Eric

Neely, Larry

Norton, Edwin

Paul, James

Quick, Robert

Rama, Alfred

Richards, Randall

Richardson, Valerie

Roberts, William

Romary, Frances

Simpkins, Raymond

Sylte, Monte

Talbert, Jeffrey

Tilley, Charles

Van Blaricom, Abelardo

Vieth, Kenneth

Vines, Michael

Vujicic, Steven

Waldron, Scott

Warren, Richard

Watkins, Kenneth

West, Brandon

Willis, Elva

Wilson, Kenneth

Withrow, Jr., Edgar

Yarbrough, Karry

The following 101 applicants do not have 3 years of experience driving a CMV on public highways with the vision deficiency:

Adams, Paul

Anderson, Peter

Armstrong, Lewis

Arsenault, Paul

Bents, Ronnie

Borton, Duane

Braun, Douglas

Bryant, Emmit

Burton, Joseph

Clegg, Jr., Henry

Courtney, Mark

Holloway, Shawn

Kelly, Timothy

Kilian, Mark

Kling, James

Land, Reginald

Light, Jason

Lovelace, Rafe

Lucero, Michael

Maestas, Jacob

Mallette, Joseph

Martin, Lloyd

Mason, Daniel

McFadden, Thomas

McGrath, Daniel

McGuire, Dennis

McKnight, Tommy

Melchert, Richard

Melssen, Jeffrey

Milan, Jesus

Milner, Robert

Mirles, Eulogio

Monti, Joseph

Morphey, Gerald

Cranford, Kelvin

Campbell, Charles

Caylor, Dwight

Davis, Audley

Daming, Paul

Dean, Joseph

Derner, Raymond

Devonshire, Joseph

Dooley, Jr., Rex

Doster, Calvin

Dreyer, John

Morrical, Jade

Moseley, Susan

Murphy, Jr., Patrick

Myhre, Dexter

Naroznik, Marian

Nielsen, James

O'Brien, William

Owen, Charles

Patrick, John

Pedroza, Joaquin

Pegg, Rodney

Quick, Robert

Rapp, Kevin

Reyna, Leodan

Rhodes, Charles

Robinson II, Chester

Roberts, James

Rogers, Michael

Rohloff, Ryan

Runde, Faber

Salmon, Danny

Sandruck, Nathan

Schmidt, Brendon

Enamorado, Gilberto

Fore, Kenneth

Geer, Steven

Gentry, Steven

Gilbert, Kevin

Glisson, William

Hale, Bobby

Henderson, Antonio

Herendeen, Vern

Hickman, Richard

Hollins, Daniel

Schmitz, Cletus

Selix, Daniel

Shaull, Bruce

Skinner, Orville

Smith, Loran

Spicer, Manuel

Steepleton, Calvin

Stewart, Debbie

Stewart, Keith

Storm, Stacey

Trice, Demetris

Turman, Marvin

Turner, Emerson

Tyrpien, Janusz

Uchytil, Lori

Van Horn, Joseph

Warriner, Jonathon

Werner, Jeremy

Wesley, Loyal

West, Jr., Lewis

Wilson, Danny

Yachetta, Charles

The following 40 applicants do not have 3 years recent experience driving a CMV with the vision deficiency:

Azlin, Danny

Baxter, N. Keith

Bazzell, Claude

Bennett, Greggory

Berry, Patrick

Breakiron, Benjamin

Britt, Jr., William

Burnett, Jr., Walter

Buttacavoli, Philip

Clason, Lee

Clayton, Jr., Arthur

Cooper, Timothy

Dambroukas, Michael

Dishman, Bradley

Fryar, Sheldon

Hicks, Larry

Kibler, Gary

Kleinschmit, Francis

Kuykendall, Roscoe

Langford, Robert

Mack, Furnice

May, Charles

McFarlane, Sr., Larry

Metcalf, Jeffrey

Meyers, Mona

Miller, Mark

Newell, John

Pounds, Jerry

Safford, Winston

Salter, Johnny

Scace, Wayne

Shadley, Marcy

Sittler, Karl

Springier, Wolfgang

Stidams, Brad

Sundberg, Terry

Taylor, Jessie

Thompson, Larry

Tichota, Jeffrey

Townson, Grady

The following 3 applicants, Guy Manning, Percy Martin, and Christopher Watson, do not need the exemption because they already meet the vision standard at 49 CFR 391.41(b)(10).

The following 13 applicants do not qualify because they were charged with moving violation(s) in conjunction with CMV accident(s), which is a disqualifying offense under the exemption criteria:

Anders, Rodger

Borum, Frankie

Brooks, Arthur

Clark, Sandy

Engstad, John

Martinez, Jose

Miller, Abe

Moises, Pastrana

Patten, Charles

Schlabach, John

Schnell, Charles

Webster, Jr., Howard

White, Winston

The following 3 applicants, Clarence Downing, Clifford Foster, and Steven Marshall, had more than two CMV moving violations during a 3-year period or while the applications were pending. Each applicant is only allowed two moving citations.

One applicant, Mr. Charles Grant, does not have sufficient peripheral vision in the better eye to qualify for an exemption.

One applicant, Mr. Kent Richards, does not qualify for the exemption because he had other medical conditions making him otherwise unqualified under the Federal Motor Carrier Safety Regulations (FMCSRs).

The following 25 applicants' licenses were suspended during the 3-year period because of a moving violation. Applicants do not qualify for an exemption with a suspension during the 3-year period.

Abraham, James

Adkins, Jesse

Baxley, Thomas

Blanchard, Stephen

Brooks, Jay

Brown, Pearlie

Closson, Jr., John

Conn, John

Craig, David

Esmay, Jr., Eldon

Evans, Frank

Fretz, Richard

Froy, Jr., Kenneth

Huebner, Lonny

Kennedy, Don

Leader, Randy

Leonard, Richard

Palmer, Derek

Pugh, Timothy

Rieck, James

Shell, Juan

Tolle II, Donald

Walters, Stephen

Weng, Yu

Westbrook, John

The following 6 applicants do not have verifiable proof of commercial driving experience during a 3-year period under normal highway operating conditions that would serve as an adequate predictor of future safety performance:

Adams, Paul

Ferguson, Dennie

Hamilton, Franklin

Mcalhaney, Leland

Todd, George

Wilson, Tracy

The following 30 applicants were involved in CMV accidents in which they contributed to the accident:

Abernathy, Kevin

Adams, Gene

Barenberg, Stanley

Bedford, Benjamin

Brockman, Jr., Thomas

Clark, Sandy

Cook, Freddy

Cotton, Erick

Cummins, William

Davis, John

Embry, Roger

Finger, Ronald

Freeman, Bobby

Good, Leslie

Gowens, Eddie

Green, Eugene

Holden, John

Jennings, Allen

Jones, Harold

Keller, Clarence

Mullins, Norman

Paschal, Eddie

Petersen, Lester

Sheets, Earl

Snitzer, Jeffrey

Stockton, Phinous

Swann, Jr., Clarence

Tomlinson, Calvin

Wagenmann, Dean

Wood, Bernard

The following 8 applicants do not demonstrate the level of safety required for interstate driving based on information received on state-issued driving reports due to excessive moving/non-moving violations during the 3-year period:

Andersen, Gary

Askin, James

Daniels, Randall

Grundy, Warren

Hahn, George

Hallman, Jerry

Hickenbottom, Walter

Kallhoff, Chad

The following 7 applicants do not hold licenses which allow operation of a CMV over 10,000 pounds gross vehicle weight rating (GVWR) for all or part of the 3-year period:

Berry, Jimmy

Cain III, Fitzhugh

Conn, John

Hartzog, Jay

Martin, Frankie

Mears, Ronnie

Thacker, Emory

The following 14 applicants were placed in the “other” category for having multiple reasons for denial:

Benedict, James

Berglund, Todd

Bosanek, Theodore

Craft, Gilbert

Hills, Jacob

Kowalsky, Richard

Lopez, Jose

O'Dell, George

Peebles, David

Peterson, James

Roseman, Dwight

Pryor, Sam

Smith, Terry

Woodruff, Bill

One applicant, Mr. Sheldon Fryar, does not qualify for an exemption because he submitted unverifiable documentation during the application process.

The following 5 applicants were disqualified because their vision had not been stable within the three-year period:

Baldwin, Sr., James

Coates, James

Malley, Albert

Wadley, Jimmie

Wren, Robert

One applicant, Mr. Roy Via, was disqualified because he held two CDLs simultaneously. Mr. Via was reported to the Department of Motor Vehicles in the two States where he obtained the CDLs. Mr. Via no longer holds two CDLs.

One applicant, Mr. William Hicks, Jr., was not qualified because he did not meet the vision standard in the better eye.

Finally, 4 Canadian drivers applied for an exemption. The reciprocity agreement between the United States and Canada does not permit Canadian drivers who do not meet the medical provisions in the National Safety Code of Canada but may have a waiver issued by one of the Canadian provinces or territories to drive CMVs in the United States.

Anderson, Wayne

Letkeman, Issac

Nott, Chad

Townson, David

Issued on: November 19, 2002.
Brian M. McLaughlin,
Associate Administrator for Policy and Program Development.

[FR Doc. 02-29973 Filed 11-25-02; 8:45 am]

BILLING CODE 4910-EX-P